DEPARTMENT OF HEALTH AND HUMAN SERVICES

National Institutes of Health

Center for Scientific Review Amended Notice of Meeting

Notice is hereby given of a change in the meeting of the Center for Scientific Review Special Emphasis Panel, Small Business: Non-HIV Anti-Infective Therapeutics Study Section, March 19, 2020, 8:00 a.m. to March 20, 2020, 6:00 p.m., at the Residence Inn Bethesda, 7335 Wisconsin Avenue, Bethesda MD, which was published in the Federal Register on February 20, 2020, 85 FR 9791.

The meeting location is being changed to the National Institutes of Health, 6701 Rockledge Drive, Bethesda, MD 20892. The meeting dates and times remain the same. The meeting is closed to the public.

Dated: March 11, 2020.
Miguelina Perez,
Program Analyst, Office of Federal Advisory Committee Policy.

[FR Doc. 2020-05411 Filed 3-16-20; 8:45 am]

BILLING CODE 4140-01-P